DEPARTMENT OF HEALTH AND HUMAN SERVICES

Administration for Children and Families

Proposed Information Collection Activity; Child Welfare Study To Enhance Equity With Data (New Collection)

AGENCY: Office of Planning, Research, and Evaluation; Administration for Children and Families; Department of Health and Human Services.

ACTION: Request for public comments.

SUMMARY: The Office of Planning, Research, and Evaluation (OPRE) within the Administration for Children and Families (ACF) is proposing a new information collection for the Child Welfare Study to Enhance Equity with Data (CW-SEED). The project aims to understand how and to what extent data are used to explore equity in service delivery and child and family outcomes, to identify barriers or problematic data practices, and to explore efforts by child welfare agencies and their partners to use data to reduce barriers across the continuum of child welfare services.

DATES: Comments due within 60 days of publication. In compliance with the requirements of the Paperwork Reduction Act (PRA) of 1995, ACF is soliciting public comment on the specific aspects of the information collection described above.

ADDRESSES: You can obtain copies of the proposed collection of information and submit comments by emailing OPREinfocollection@acf.hhs.gov. Identify all requests by the title of the information collection.

SUPPLEMENTARY INFORMATION: Description: CW-SEED will conduct qualitative case studies to describe the experiences of up to six state, local, and/or tribal child welfare agencies and their partners collecting and using data to advance equity in service delivery and child and family outcomes. The case studies will document promising data practices and the potential challenges to implementing them. Each case study will include two components (1) collection and review of site-specific documents and other relevant information, and (2) in-person site visits to collect detailed qualitative data and any additional documentation the sites can provide. This information collection aims to present an internally valid description of the experiences of the sites, not to promote statistical generalization to different sites.

Respondents: Child welfare agency leaders, managers or supervisors of direct service workers, direct service workers, and staff who work with the agency's data systems and/or conduct research; partner agency and community organization leaders, managers or supervisors of direct service workers, direct service workers, and staff who work with the organization's data systems and/or conduct research; and, members of advisory groups that work with child welfare agencies, partner agencies, or community organizations.

Annual Burden Estimates

Instrument | Number of respondents (total over request period) | Number of responses per respondent (total over request period) | Average burden per response (in hours) | Total burden (in hours) | Annual burden (in hours)
Instrument 1: Interview topic guide | 180 | 1 | 2 | 360 | 180
Instrument 2: Child welfare agency advisory focus group guide | 42 | 1 | 1.5 | 63 | 32
Instrument 3: Partner agency and community organization advisory focus group guide | 18 | 1 | 1.5 | 27 | 14
Instrument 4: Demonstration guide | 12 | 1 | 1 | 12 | 6

Estimated Total Annual Burden Hours: 232.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act 426 [42 U.S.C. 626].

Mary B. Jones,
ACF/OPRE Certifying Officer.

[FR Doc. 2022-20951 Filed 9-27-22; 8:45 am]

BILLING CODE 4184-01-P